DEPARTMENT OF THE INTERIOR

National Park Service

[NPS-WASO-NAGPRA-NPS0028709; PPWOCRADN0-PCU00RP14.R50000]

Notice of Inventory Completion: Department of Anthropology, University of Alaska Anchorage, Anchorage, AK

AGENCY: National Park Service, Interior.

ACTION: Notice.

SUMMARY: The Department of Anthropology, University of Alaska Anchorage has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, University of Alaska Anchorage. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, University of Alaska Anchorage at the address in this notice by October 3, 2019.

ADDRESSES: Dr. John Stalvey, Interim Provost, University of Alaska Anchorage, 3211 Providence Drive, Anchorage, AK 99508, telephone (907) 786-1050, email Jstalvey@alaska.edu.

SUPPLEMENTARY INFORMATION: Notice is here given in accordance with the Native American Graves Protection and Repatriation Act (NAGPRA), 25 U.S.C. 3003, of the completion of an inventory of human remains under the control of the Department of Anthropology, University of Alaska Anchorage, Anchorage, AK. The human remains were removed from Reese Bay Site (UNL-063), Unalaska Island, Aleutians West Borough, AK.

This notice is published as part of the National Park Service's administrative responsibilities under NAGPRA, 25 U.S.C. 3003(d)(3). The determinations in this notice are the sole responsibility of the museum, institution, or Federal agency that has control of the Alaska Native human remains. The National Park Service is not responsible for the determinations in this notice.

Consultation

A detailed assessment of the human remains was made by the Department of Anthropology, University of Alaska Anchorage professional staff in consultation with representatives of the Qawalangin Tribe of Unalaska.

History and Description of the Remains

Between 1986 and 1990, human remains representing, at minimum, four individuals were removed from the Reese Bay site (UNL-063) in Reese Bay, Unalaska Island, Aleutians West Borough, AK, by Douglas W. Veltre and colleagues with permission of the Ounalashka Corporation. The human remains belong to one female of indeterminate age; one individual of indeterminate age and sex, represented by an arm bone, two femurs, and one thoracic vertebra; one individual of indeterminate age and sex, represented by approximately 15 teeth; and one individual of indeterminate age and sex, represented by three cranial fragments and one mandible. Interviews with Unalaska Aleut elders were undertaken from 1986 to 1990 to determine the cultural affiliation of the human remains. No known individuals were identified. No associated funerary objects are present.

Reese Bay is a Late Prehistoric/Early Historic site on Unalaska Island in the Aleutian Archipelago. Archeological, ethnohistoric, and oral tradition data all place the Reese Bay site within the traditional territory of the Unangan (Eastern Aleuts) of Unalaska village. The Unangax (Aleut) people have lived in this area for at least 9,000 years, and are the only indigenous people of the Aleutian Archipelago.

Determinations Made by the Department of Anthropology, University of Alaska Anchorage

Officials of the Department of Anthropology, University of Alaska Anchorage have determined that:

• Pursuant to 25 U.S.C. 3001(9), the human remains described in this notice represent the physical remains of four individuals of Alaska Native ancestry.

• Pursuant to 25 U.S.C. 3001(2), there is a relationship of shared group identity that can be reasonably traced between the Alaska Native human remains and the Qawalangin Tribe of Unalaska.

Additional Requestors and Disposition

Lineal descendants or representatives of any Indian Tribe or Native Hawaiian organization not identified in this notice that wish to request transfer of control of these human remains should submit a written request with information in support of the request to Dr. John Stalvey, Interim Provost, University of Alaska Anchorage, 3211 Providence Drive, Anchorage, AK 99508, telephone (907) 786-1050, email Jstalvey@alaska.edu, by October 3, 2019. After that date, if no additional requestors have come forward, transfer of control of the human remains to the Qawalangin Tribe of Unalaska may proceed.

The Department of Anthropology, University of Alaska Anchorage is responsible for notifying the Qawalangin Tribe of Unalaska that this notice has been published.

Dated: August 13, 2019.
Melanie O'Brien,
Manager, National NAGPRA Program.

[FR Doc. 2019-18857 Filed 8-30-19; 8:45 am]

BILLING CODE 4312-52-P